DEPARTMENT OF HEALTH AND HUMAN SERVICES

Health Resources and Services Administration

Centers for Disease Control and Prevention (CDC)/Health Resources and Services Administration (HRSA) Advisory Committee on HIV, Viral Hepatitis, and Sexually Transmitted Disease (STD) Prevention and Treatment

AGENCY: Health Resources and Services Administration, HHS.

ACTION: Notice.

SUMMARY: The Health Resources and Services Administration (HRSA) is requesting nominations to fill three vacancies on the CDC/HRSA Advisory Committee on HIV, Viral Hepatitis and STD Prevention and Treatment (CHACHSPT).

DATES: Nominations should be submitted electronically or in writing, and must be postmarked by August 30, 2014.

ADDRESSES: All nominations should be submitted by email to: Shelley B. Gordon, Public Health Analyst, at sgordon@hrsa.gov or mailed to Shelley B. Gordon, HIV/AIDS Bureau, HRSA, 5600 Fishers Lane, Room 7C-26, Rockville, Maryland 20857, no later than September 15, 2014.

FOR FURTHER INFORMATION CONTACT: Shelley B. Gordon, Public Health Analyst, HIV/AIDS Bureau, HRSA, 5600 Fishers Lane, Room 7C-26, Rockville, Maryland 20857, sgordon@hrsa.gov, 301-443-9684.

SUPPLEMENTARY INFORMATION: The CHACHSPT is governed by the Federal Advisory Committee Act, Public Law 92-643 (5 U.S.C. App. 2), as amended, which sets forth the standards for the formation and use of advisory committees. The CHACHSPT consists of 18 experts knowledgeable in the fields of public health, epidemiology, laboratory practices, immunology, infectious diseases, drug abuse, behavioral science, health education, healthcare delivery, state health programs, clinical care, preventive health, medical education, health services and clinical research, and healthcare financing, who are selected by the Secretary of the U.S. Department of Health and Human Services (HHS). The CHACHSPT provides advice to the Secretary, HHS; the Director, CDC; and the Administrator, HRSA, on objectives, strategies, policies, and priorities for HIV, viral hepatitis, and STD prevention and treatment efforts including surveillance of HIV infection, AIDS, viral hepatitis, other STDs, and related behaviors; epidemiologic, behavioral, health services, and laboratory research on HIV/AIDS, viral hepatitis, and other STDs; identification of policy issues related to HIV/viral hepatitis/STD professional education, patient healthcare delivery, and prevention services; agency policies about prevention of HIV/AIDS, viral hepatitis, and other STDs, treatment, healthcare delivery, and research and training; strategic issues influencing the ability of CDC and HRSA to fulfill their missions of providing prevention and treatment services; programmatic efforts to prevent and treat HIV, viral hepatitis, and other STDs; and support to the agencies in their development of responses to emerging health needs related to HIV, viral hepatitis, and other STDs.

Nominations are being sought for individuals who have expertise and qualifications necessary to contribute to the Committee's objectives.

Nominees will be selected from experts having experience in HIV/AIDS, viral hepatitis, and STDs prevention and control. Experts in the disciplines of epidemiology, laboratory practice, immunology, infectious diseases, drug abuse, behavioral science, health education, healthcare delivery, state health programs, clinical care, preventive health, medical education, health services and clinical research, healthcare financing, and other related disciplines will be considered. Members may be invited to serve for terms of up to 4 years.

The HHS policy stipulates that committee membership be balanced in terms of points of view represented and the committee's function. Consideration is given to ensure a broad representation of geographic areas within the U.S., as well as gender, race, ethnicity, persons with disabilities, and several other factors including: (1) The committee's mission; (2) the geographic, ethnic, social, economic, or scientific impact of the advisory committee's recommendations; (3) the types of specific perspectives required, for example, those of consumers, technical experts, the public at-large, academia, business, or other sectors; (4) the need to obtain divergent points of view on the issues before the advisory committee; and (5) the relevance of state, local, or Tribal governments to the development of the advisory committee's recommendations. Nominees must be U.S. citizens.

Candidates should submit the following items:

• Current curriculum vitae, including complete contact information (telephone numbers, mailing address, email address).

• A letter of recommendation from person(s) not employed by the U.S. Department of Health and Human Services.

• A statement indicating the nominee's willingness to serve as a potential member of the Committee.

Dated: August 7, 2014.
Jackie Painter,
Acting Director, Division of Policy and Information Coordination.

[FR Doc. 2014-19199 Filed 8-13-14; 8:45 am]

BILLING CODE 4165-15-P